DEPARTMENT OF ENERGY

Federal Energy Regulatory Commission

[Docket No. ER99-1432-003, et al.]

Kincaid Generation, L.L.C., et al.; Electric Rate and Corporate Filings

April 20, 2004.

The following filings have been made with the Commission. The filings are listed in ascending order within each docket classification.

1. Kincaid Generation, L.L.C.

[Docket No. ER99-1432-003]

Take notice that on April 16, 2004, Kincaid Generation, L.L.C. (KGL) tendered for filing docket tariff sheets that modify its market based rate tariff by adding the Market Behavior Rules that the Commission adopted in its November 17, 2003, order, Investigation of Terms and Conditions of Public Utility Market-Based Rate Authorizations, 105 FERC ¶ 61,218 (2003) to be effective December 17, 2003.

KGL states that copies of the filing were served upon the public utility's jurisdictional customers and Virginia State Corporation Commission, Ohio Public Utilities Commission, the Public Service Commission of West Virginia and the Pennsylvania Public Service Commission.

Comment Date: May 7, 2004.

2. Elwood Energy LLC

[Docket No. ER99-1695-003]

Take notice that on April 16, 2004, Elwood Energy LLC (the Company) tendered for filing tariff sheets that modify its market based rate tariff by adding the Market Behavior Rules that the Commission adopted in its order issued November 17, 2003, Investigation of Terms and Conditions of Public Utility Market-Based Rate Authorizations, 105 FERC ¶ 61,218 (2003), with an effective date of December 17, 2003.

The Company states that copies of the filing were served upon the public utility's jurisdictional customers and Virginia State Corporation Commission, Ohio Public Utilities Commission, the Public Service Commission of West Virginia and the Pennsylvania Public Service Commission.

Comment Date: May 7, 2004.

3. Occidental Power Marketing, L.P.

[Docket No. ER99-3665-004]

Take notice that on April 15, 2004, Occidental Power Marketing, L.P., submitted for filing a triennial market power analysis in support of its authorization to purchase and sell electric capacity and energy at market-based rates.

Comment Date: May 6, 2004.

4. Dominion Nuclear Connecticut, Inc.

[Docket No. ER00-3621-003]

Take notice that on April 16, 2004 Dominion Nuclear Connecticut, Inc. tendered for filing tariff sheets that modify its market based rate tariff by adding the Market Behavior Rules that the Commission adopted in its order issued November 17, 2003, Investigation of Terms and Conditions of Public Utility Market-Based Rate Authorizations, 105 FERC ¶ 61,218 (2003) to be effective December 17, 2003.

Dominion Nuclear Connecticut, Inc. states that copies of the filing were served upon the public utility's jurisdictional customers and Virginia State Corporation Commission, Ohio Public Utilities Commission, the Public Service Commission of West Virginia and the Pennsylvania Public Service Commission.

Comment Date: May 7, 2004.

5. Dominion Nuclear Marketing III, L.L.C.

[Docket No. ER00-3746-004]

Take notice that on April 16, 2004, Dominion Nuclear Marketing III, L.L.C. tendered for filing tariff sheets that modify its market based rate tariff by adding the Market Behavior Rules that the Commission adopted in its order issued November 17, 2003, Investigation of Terms and Conditions of Public Utility Market-Based Rate Authorizations, 105 FERC ¶ 61,218 (2003) to be effective December 17, 2003.

Dominion Nuclear Marketing III, L.L.C. states that copies of the filing were served upon the public utility's jurisdictional customers and Virginia State Corporation Commission, Ohio Public Utilities Commission, the Public Service Commission of West Virginia and the Pennsylvania Public Service Commission.

Comment Date: May 7, 2004.

6. ISO New England Inc.

[Docket No. ER01-316-012]

Take notice that on April 16, 2004, ISO New England Inc. filed its Index of Customers for the first quarter of 2004 under its Tariff for Transmission Dispatch and Power Administration Services.

Comment Date: May 7, 2004.

7. Dominion Energy Marketing, Inc.

[Docket No. ER01-468-002]

Take notice that on April 16, 2004, Dominion Energy Marketing, Inc. tendered for filing tariff sheets that modify its market based rate tariff by adding the Market Behavior Rules that the Commission adopted in its order issued November 17, 2003, Investigation of Terms and Conditions of Public Utility Market-Based Rate Authorizations, 105 FERC ¶ 61,218 (2003) to be effective December 17, 2003.

Dominion Energy Marketing, Inc. states that copies of the filing were served upon the public utility's jurisdictional customers and Virginia State Corporation Commission, Ohio Public Utilities Commission, the Public Service Commission of West Virginia and the Pennsylvania Public Service Commission.

Comment Date: May 7, 2004.

8. Pacific Gas and Electric Company

[Docket No. ER04-413-001]

Take notice that on April 15, 2004, Pacific Gas and Electric Company (PG&E) submitted a filing in compliance with the Commission's Order issued March 17, 2004, in Docket No. ER04-413-000. PG&E also tendered for filing Executed Generator Special Facilities Agreements and Generator Interconnection Agreements between PG&E and Shiloh Wind Partners, LLC (Shiloh) and Kings River Conservation District (Kings River).

PG&E states that copies of this filing have been served upon Shiloh, Kings River, Dinuba Energy Inc., the California Independent System Operator Corporation and the California Public Utilities Commission.

Comment Date: May 6, 2004.

9. Pacific Gas and Electric Company

[Docket No. ER04-415-001]

Take notice that on April 16, 2004, Pacific Gas and Electric Company (PG&E) filed additional information, in response to the Commission's deficiency letter issued March 15, 2004, regarding PG&E's January 20, 2004, filing of Generator Special Facilities Agreements and Generator Interconnection Agreements with Berry Petroleum Company—Tannehill Cogen, Berry Petroleum Company—University Cogen, and Big Creek Water Works, Ltd., as well as an Interim Special facilities Agreement and Interim Parallel Operating Agreement with Big Creek.

PG&E states that copies of this filing have been served upon Berry Tannehill, Berry University, Big Creek, the California Independent System Operator Corporation, the California Public Utilities Commission, and the parties to this docket.

Comment Date: May 7, 2004.

10. Core Equities, Inc.

[Docket No. ER04-646-001]

Take notice that on April 14 2004, Core Equities, Inc. (Core) filed a supplement to its March 15, 2004, application for market-based rates as a power marketer in Docket No. ER04-646-000.

Comment Date: May 6, 2004.

11. Pinpoint Power, LLC

[Docket No. ER04-740-000]

Take notice that on April 15, 2004, Pinpoint Power, LLC (Pinpoint) filed an Agreement for Supplemental Installed Capacity Southwest Connecticut (LRP Resources)—Honeywell Direct Load Control (Agreement) with ISO New England Inc. (ISO-NE) in compliance with section 205 of the Federal Power Act and the Commission's order issued February 27, 2004, in Docket No. ER04-335-000, New England Power Pool, 106 FERC ¶ 61,190 (2004). Pinpoint states that it seeks expedited action on its filing and a waiver of the prior notice filing requirements to allow the Agreement to become effective on June 1, 2004, to allow ISO-NE to address near-term reliability issues in NEPOOL.

Pinpoint also states that copies of its filing were sent to ISO-NE.

Comment Date: May 6, 2004.

12. Pinpoint Power, LLC

[Docket No. ER04-741-000]

Take notice that on April 15, 2004, Pinpoint Power, LLC (Pinpoint) filed an Agreement for Supplemental Installed Capacity Southwest Connecticut (LRP Resources) (Agreement) with ISO New England Inc. (ISO-NE) in compliance with section 205 of the Federal Power Act and the Commission's order issued February 27, 2004, in Docket No. ER04-335-000, New England Power Pool, 106 FERC ¶ 61,190 (2004). Pinpoint seeks expedited action on its filing and a waiver of the prior notice filing requirements to allow the Agreement to become effective on June 1, 2004, to allow ISO-NE to address near-term reliability issues in NEPOOL.

Pinpoint also states that copies of its filing were sent to ISO-NE.

Comment Date: May 6, 2004.

13. Comverge, Inc.

[Docket No. ER04-744-000]

Take notice that on April 16, 2004, Comverge, Inc. (Comverge) filed an Agreement for Supplemental Installed Capacity Southwest Connecticut between ISO New England, Inc. and Comverge, Inc., in compliance with the Commission's order issued February 27, 2004, in Docket No. ER04-335-000, New England Power Pool, 106 FERC ¶ 61,190 (2004). Comverge seeks expedited action on its filing and a waiver of the prior notice filing requirement to allow the Agreement to become effective on the earliest date possible.

Comverge states that copies of the filing were served on the ISO-NE.

Comment Date: May 7, 2004.

14. CAM Energy LLC

[Docket No. ER04-745-000]

Take notice that on April 16, 2004, CAM Energy LLC (Applicant) tendered for filing an application for acceptance of CAM Energy LLC's FERC Electric Rate Schedule No. 1, and the grant of waivers and blanket approvals under various regulations of the Commission. Applicant states that it is seeking authority to make sales of electrical capacity, energy, ancillary services, and Firm Transmission Rights, Congestion Credits, Fixed Transmission Rights, and Auction Revenue Rights, as well as reassignments of transmission capacity, to wholesale customers at market-based rates. Applicant requests waiver of the 60-day prior notice requirement to permit the Rate Schedule to be effective April 17, 2004, and requests expeditious Commission approval of this Application on or before June 1, 2004.

Comment Date: May 7, 2004.

15. Northwestern Wisconsin Electric Company

[Docket No. ER04-746-000]

Take notice that on April 16, 2004, Northwestern Wisconsin Electric Company, (NWEC) tendered for filing proposed changes in its Transmission Use Charge, Rate Schedule FERC No. 2, an Interconnection and Facility Use Agreement between Dairyland Power Cooperative (Dairyland) and NWEC. NWEC requests this Rate Schedule Change become effective May 1, 2004.

NWEC states that copies of this filing have been provided to Dairyland and to the Public Service Commission of Wisconsin.

Comment Date: May 7, 2004.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-941 Filed 4-26-04; 8:45 am]

BILLING CODE 6717-01-P